ENVIRONMENTAL PROTECTION AGENCY

[FRL-7594-6]

Notice of Proposed Prospective Purchaser Agreement Pursuant to the Comprehensive Environmental Response, Compensation and Liability Act of 1980, 42 U.S.C. 9601, et seq., as Amended (CERCLA), Riverfront Superfund Site Operable Unit No. 1, New Haven, MO, EPA Docket No. CERCLA-07-2004-0004

AGENCY: Environmental Protection Agency.

ACTION: Notice of proposed Prospective Purchaser Agreement and opportunity for public comment.

SUMMARY: The United States Environmental Protection Agency (EPA) is proposing to enter into an Agreement and Covenant Not to Sue (Prospective Purchaser Agreement) pertaining to the Riverfront Superfund Site, Operable Unit No. 1 (OU1) located in the City of New Haven, Franklin County, Missouri. In addition to the EPA, the parties to this Prospective Purchaser Agreement will be the United States Department of Justice, the Missouri Department of Natural Resources, the Missouri Attorney General's Office, and the Industrial Development Authority of the City of New Haven, Missouri, a Missouri industrial development corporation and the prospective purchaser.

This Prospective Purchaser Agreement is subject to a 15 day public comment period, after which the United States, the EPA, and/or the State of Missouri may modify or withdraw their consent to the Prospective Purchaser Agreement if comments received disclose facts or considerations which indicate that this Prospective Purchaser Agreement is inappropriate, improper or inadequate.

DATES: Comments must be submitted on or before December 23, 2003.

ADDRESSES: Comments should be directed to David Hoefer, Attorney, United States Environmental Protection Agency, Region VII, 901 North 5th Street, Kansas City, Kansas 66101-2798, and should reference the Riverfront Superfund Site, Operable Unit No.1, New Haven, Missouri, Prospective Purchaser Agreement, Docket No. CERCLA-07-2004-0004.

A copy of the Prospective Purchaser Agreement may be obtained by contacting Mr. Hoefer at the above address, by phone at (913) 551-7503, or by e-mail at hoefer.david@epa.gov.

SUPPLEMENTARY INFORMATION: New Haven, Missouri is a city with a population of approximately 1,700 located along the southern bank of the Missouri River in Franklin County, Missouri, approximately 40 miles west of St. Louis, Missouri. In 1986, the hazardous substance tetrachloroethene (“PCE”), was detected in two public-supply groundwater wells in the northern part of New Haven. Following this discovery, two new public-supply wells were installed in the southern part of the city, and several investigations into the source of the contamination were conducted by the Missouri Department of Natural Resources and EPA. The Riverfront Superfund Site is comprised of six operable units. The subject of this Prospective Purchaser Agreement is Operable Unit No. 1 (OU1). OU1 is located in the area of the northeast corner of Front Street and Cottonwood Street, just east of downtown New Haven. Located on OU1 is a 15,000 square foot, one story, concrete block and metal building. The highest PCE concentrations for OU1 have been detected in the soils beneath Front Street along the south side of this building. A plume of groundwater contaminated with PCE and its degradation products trichloroethene, cis-1,2-dichloroethene, and vinyl chloride emanates from this area of soil contamination and extends northward in the alluvium to the Missouri River where it discharges. This plume is not contributing to the PCE contamination that affected the city's closed water supply wells. On September 30, 2003, EPA issued a Record of Decision (ROD) for OU1. The ROD provides for the implementation of a remedial action to address contamination at OU1. The selected remedial action includes the use of an in-well stripper unit to treat contaminated soils and the head of the groundwater plume, as well as groundwater monitoring and institutional controls.

The Prospective Purchaser Agreement would resolve certain claims that the United States and the State of Missouri may have against the Industrial Development Authority of the City of New Haven, Missouri, the prospective purchaser of OU1, pursuant to sections 106 and 107(a) of CERCLA, 42 U.S.C. 9606 and 9607(a), with respect to the existing contamination. In addition, the Industrial Development Authority of the City of New Haven, Missouri will receive protection from contribution actions or claims as provided by section 113(f)(2) of CERCLA, 42 U.S.C. 9613(f)(2), for matters addressed in the Prospective Purchaser Agreement.

Pursuant to the Prospective Purchaser Agreement the Industrial Development Authority of the City of New Haven, Missouri has agreed to commit OU1 in perpetuity for civic, park, and/or parking purposes. It will also impose certain use restrictions on OU1 through the grant of a restrictive covenant and easement to the State of Missouri; provide access to OU1 to the United States and the State for response action implementation, maintenance, and monitoring; provide notice of contamination to any successors in interest; exercise due care with regard to contamination at OU1; and cooperate with the United States and the State in its investigation and response to the release or threat of release of hazardous substances at OU1.

If the Industrial Development Authority of the City of New Haven, Missouri fails to comply with the Prospective Purchaser Agreement, it shall be liable for litigation and other enforcement costs incurred by the United States to enforce the Prospective Purchaser Agreement or otherwise obtain compliance.

Dated: November 25, 2003.
William Rice,
Acting Regional Administrator, Region VII.

[FR Doc. 03-30171 Filed 12-5-03; 8:45 am]

BILLING CODE 6560-50-P